DEPARTMENT OF THE TREASURY

Privacy Act of 1974, as Amended; System of Records

AGENCY: Treasury.

ACTION: Notice of Alteration to a Privacy Act System of Records.

SUMMARY: The Treasury Department gives notice of proposed alterations to the system of records entitled, “Treasury .004—Freedom of Information Act/Privacy Act Request Records” which is subject to the Privacy Act of 1974.

DATES: Effective Date: April 29, 2011.

FOR FURTHER INFORMATION CONTACT: Hugh Gilmore, Director, Disclosure Services, Hugh.Gilmore@treasury.gov, 202-622-0876.

SUPPLEMENTARY INFORMATION: The Department of the Treasury (Department) is amending Treasury .004—Freedom of Information Act/Privacy Act Request Records to assist the Department in carrying out its responsibilities under Public Law 110-175, 121 Stat. 2524, the “Openness Promotes Effectiveness in our National Government Act of 2007” to increase public access to Treasury Records.

The information in the system will enable the appropriate Freedom of Information Act office within the Department to administratively control and/or process requests for records; to ensure compliance with the Freedom of Information Act (FOIA) and Privacy Act (PA); and to collect raw data for the annual reporting requirements of the FOIA and other Department management reporting requirements. The system also simplifies the FOIA/PA request process by allowing requesters to submit requests online.

This document makes minor alterations to the system of records notice reflecting that the contact information under “Categories of records in the system” now includes email, and under “Purposes,” the system now allows for online submissions by a requester. The language under “Safeguards” has been updated to reflect the additional standards and guidance issued by the National Institute of Standards and Technology. In addition, the Treasury components and offices listed under “System location” and “System manager(s) and addresses” have been revised to reflect the current organization of the Department.

The notice for the system of records was last published in its entirety on September 7, 2010, at 75 FR 54429.

The described alterations are not considered significant and are not subject to the reporting requirements of subsection (r) of the Privacy Act of 1974.

The system of records notice for the amended “Treasury .004—Freedom of Information Act/Privacy Act Request Records” is published in its entirety below.

Dated: April 25, 2011.
Melissa Hartman,
Deputy Assistant Secretary for Privacy, Transparency, and Records.

TREASURY .004

System name:

Freedom of Information Act/Privacy Act Request Records—Treasury.

System location:

Department of the Treasury, 1500 Pennsylvania Avenue, NW., Washington, DC 20220. The locations at which the system is maintained by Treasury components and their associated field offices are:

(1) Departmental Offices (DO), which includes the Office of Inspector General (OIG), the Community Development Financial Institutions Fund (CDFI), and Special Inspector General for the Troubled Asset Relief Program (SIGTARP);

(2) Alcohol and Tobacco Tax and Trade Bureau (TTB);

(3) Office of the Comptroller of the Currency (OCC);

(4) Bureau of Engraving and Printing (BEP);

(5) Financial Management Service (FMS);

(6) United States Mint (MINT);

(7) Bureau of the Public Debt (BPD);

(8) Office of Thrift Supervision (OTS);

(9) Financial Crimes Enforcement Network (FinCEN); and

(10) Treasury Inspector General for Tax Administration (TIGTA).

Categories of individuals covered by the system:

Individuals who have: (1) Requested access to records pursuant to the Freedom of Information Act, 5 U.S.C. 552 (FOIA), or who have appealed initial denials of their requests; and/or (2) made a request for access, amendment, or other action pursuant to the Privacy Act of 1974, 5 U.S.C. 552a (PA).

Categories of records in the system:

Requests for records or information pursuant to the FOIA/PA, which includes the names of individuals making written or electronically submitted requests for records under the FOIA/PA; the contact information of the requesting individual such as their mailing address, e-mail address, and/or phone number; and the dates of such requests and their receipt. Supporting records include the written correspondence received from requesters and responses made to such requests; internal processing documents and memoranda; referrals and copies of records provided or withheld; and may include legal memoranda and opinions. Comparable records are maintained in this system with respect to any appeals made from initial denials of access, refusal to amend records, and lawsuits under the FOIA/PA.

Authority for maintenance of the system:

Freedom of Information Act, 5 U.S.C. 552; Privacy Act of 1974, 5 U.S.C. 552a; and 5 U.S.C. 301.

Purpose(s):

The system is used by officials to administratively control and/or process requests for records to ensure compliance with the FOIA/PA and to collect data for the annual reporting requirements of the FOIA and other Departmental management report requirements. In addition, the system allows for online submission to expedite the consideration of requests.

Routine uses of records maintained in the system, including categories of users and the purposes of such uses:

These records may be used to:

(1) Disclose pertinent information to appropriate Federal, foreign, State, local, tribal or other public authorities or self-regulatory organizations responsible for investigating or prosecuting the violations of, or for enforcing or implementing, a statute, rule, regulation, order, or license, where the disclosing agency becomes aware of an indication of a violation or potential violation of civil or criminal law or regulation;

(2) Disclose information to a court, magistrate, or administrative tribunal in the course of presenting evidence, including disclosures to opposing counsel or witnesses in the course of civil discovery, litigation, or settlement negotiations, in response to a court order, or in connection with criminal law proceedings;

(3) Provide information to a congressional office in response to an inquiry made at the request of the individual to whom the record pertains;

(4) Disclose information to another Federal agency to (a) permit a decision as to access, amendment or correction of records to be made in consultation with or by that agency, or (b) verify the identity of an individual or the accuracy of information submitted by an individual who has requested access to or amendment or correction of records;

(5) Disclose information to the Department of Justice when seeking legal advice, or when (a) the agency, or (b) any component thereof, or (c) any employee of the agency in his or her official capacity, or (d) any employee of the agency in his or her individual capacity where the Department of Justice has agreed to represent the employee, or (e) the United States, where the agency determines that litigation is likely to affect the agency or any of its components, is a party to litigation or has an interest in such litigation, and the use of such records by the Department of Justice is deemed by the agency to be relevant and necessary to the litigation;

(6) Disclose information to the appropriate foreign, State, local, tribal, or other public authority or self-regulatory organization for the purpose of (a) consulting as to the propriety of access to or amendment or correction of information obtained from that authority or organization, or (b) verifying the identity of an individual who has requested access to or amendment or correction of records;

(7) Disclose information to contractors and other agents who have been engaged by the Department or one of its bureaus to provide products or services associated with the Department's or bureaus' responsibilities arising under the FOIA/PA;

(8) Disclose information to the National Archives and Records Administration for use in records management inspections;

(9) Disclose information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Electronic media, computer paper printout, index file cards, and paper records in file folders.

Retrievability:

Retrieved by name, subject, request file number, or other data element as may be permitted by an automated system.

Safeguards:

Protection and control of any sensitive but unclassified (SBU) records are in accordance with Treasury Directive Publication 71-10, Department of the Treasury Security Manual; DO P-910, Departmental Offices Information Technology Security Policy Handbook; Treasury Directive Publication 85-01, Treasury Information Technology Security Program; National Institute of Standards and Technology 800-122 and any supplemental guidance issued by individual bureaus; the National Institute of Standards and Technology Special Publication 800-53 Revision 3, Recommended Security Controls for Federal Information Systems and Organizations; and Guide to Protecting the Confidentiality of Personally Identifiable Information. Access to the records is available only to employees responsible for the management of the system and/or employees of program offices who have a need for such information.

Retention and disposal:

The records pertaining to FOIA/PA requests are retained and disposed of in accordance with the National Archives and Records Administration's General Record Schedule 14—Information Services Records.

System manager(s) and address:

Department of the Treasury: Official prescribing policies and practices—Departmental Disclosure Officer, Department of the Treasury, 1500 Pennsylvania Avenue, NW., Washington, DC 20220. The system managers for the Treasury components are:

1. (a) DO: Director, Disclosure Services, Department of the Treasury, Washington, DC 20220.

(b) OIG: Director, Disclosure Services, Department of the Treasury, Washington, DC 20220.

(c) CDFI: Director, Disclosure Services, Department of the Treasury, Washington, DC 20220.

(d) SIGTARP: Chief Counsel, Office of the Special Inspector General for the Troubled Asset Relief Program, 1801 L Street, NW., Washington, DC 20036.

2. Alcohol and Tobacco Tax and Trade Bureau (TTB): 1310 G St., NW., Washington, DC 20220.

3. BEP: Disclosure Officer, FOIA Office, 14th & C Streets, SW., Washington, DC 20228.

4. FMS: Disclosure Officer, 401 14th Street, SW., Washington, DC 20227.

5. Mint: Disclosure Officer, 801 9th Street, NW., 8th Floor, Washington, DC 20220.

6. OCC: Disclosure Officer, Communications Division, Washington, DC 20219.

7. BPD: Information Disclosure Officer, Avery Street Building, 320 Avery Street, Parkersburg, WV.

8. OTS: Manager, Freedom of Information Act Office, 1700 G Street, NW., Washington, DC 20552.

9. FinCEN: P.O. Box 39, Vienna, VA 22182.

10. TIGTA: Director, Human Capital and Support Services, 1125 15th Street, NW., Suite 700A, Washington, DC 20005.

Notification procedure:

Individuals seeking notification and access to any record contained in the system of records, or seeking to contest its content, may inquire in accordance with instructions pertaining to individual Treasury components appearing at 31 CFR part 1, subpart C, appendices A-M.

Record Access procedures:

See “Notification procedure” above.

Contesting Record procedures:

See “Notification procedure” above.

Record source categories:

The information contained in these files originates from individuals who make FOIA/PA requests and agency officials responding to those requests.

Exemptions claimed for the system:

None. Please note that the Department has claimed one or more exemptions (see 31 CFR 1.36) for a number of its other systems of records under 5 U.S.C. 552a(j)(2) and (k)(1), (2), (3), (4), (5), and (6). During the course of a FOIA/PA action, exempt materials from those other systems may become a part of the case records in this system. To the extent that copies of exempt records from those other systems have been recompiled and/or entered into these FOIA/PA case records, the Department claims the same exemptions for the records as they have in the original primary systems of records of which they are a part.

[FR Doc. 2011-10417 Filed 4-28-11; 8:45 am]

BILLING CODE 4810-25-P